DEPARTMENT OF DEFENSE

Office of the Secretary

[Docket ID: DoD-2024-OS-0145]

Submission for OMB Review; Comment Request

AGENCY: Office of the Under Secretary of Defense for Research and Engineering (OUSD(R&E)), Department of Defense (DoD).

ACTION: 30-Day information collection notice.

SUMMARY: The DoD has submitted to the Office of Management and Budget (OMB) for clearance the following proposal for collection of information under the provisions of the Paperwork Reduction Act.

DATES: Consideration will be given to all comments received by June 12, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense User Registration System (DURS); OMB Control Number 0704-0546.

Type of Request: Extension.

Number of Respondents: 6,625.

Responses per Respondent: 1.

Annual Responses: 6,625.

Average Burden per Response: 12 minutes.

Annual Burden Hours: 1,325.

Needs and Uses: The Defense Technical Information Center (DTIC) requires all eligible users to be registered for access to DTIC's repository of access-controlled scientific and technical information documents. This system is called the DURS. The registration of a user enforces validation of an individual's identity, as well as that individual's persona (i.e., whether the individual is DoD, Federal government, or a contractor supporting the DoD or another federal agency) and that individual's authority to access limited and classified documents with distribution controls. A role-based environment based on a user's identification ensures security for DTIC's electronic information collection while the online systems increase availability of information to each user based on his or her mission needs.

Affected Public: Individuals or Households; Business or Other For-Profit; Not-For-Profit Institutions.

Frequency: On occasion.

Respondent's Obligation: Voluntary.

DOD Clearance Officer: Mr. Reginald Lucas.

Dated: May 08, 2025.
Stephanie J. Bost,
Alternate OSD Federal Register Liaison Officer, Department of Defense.

[FR Doc. 2025-08394 Filed 5-12-25; 8:45 am]

BILLING CODE 6001-FR-P